ENVIRONMENTAL PROTECTION AGENCY

[EPA-HQ-OECA-2007-0380; FRL-8485-4]

Agency Information Collection Activities; Proposed Collection; Comment Request; Air Stationary Source Compliance and Enforcement Information; EPA ICR No. 0107.09, OMB Control No. 2096-0096

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on June 30, 2008. Before submitting the ICR to OMB for review and approval, EPA is soliciting comments on specific aspects of the proposed information collection as described below.

DATES: Comments must be submitted on or before December 24, 2007.

ADDRESSES: Submit your comments, identified by Docket ID No. EPA-HQ-OECA-2007-0380, by one of the following methods:

• http://www.regulations.gov: Follow the on-line instructions for submitting comments.

• E-mail: metcalf.betsy@epa.gov.

• Fax: (202) 564-0032.

• Mail: Air Stationary Source Compliance and Enforcement Information, Environmental Protection Agency, Mailcode: 2222A, 1200 Pennsylvania Ave., NW., Washington, DC 20460.

• Hand Delivery: EPA Docket Center (EPA/DC), EPA West, Room 3334, 1301 Constitution Ave., NW., Washington, DC. Such deliveries are only accepted during the Docket's normal hours of operation, and special arrangements should be made for deliveries of boxed information.

Instructions: Direct your comments to Docket ID No. EPA-HQ-OECA-2007-0380. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Betsy Metcalf, Enforcement Targeting & Data Division, Office of Compliance, (2222A), Environmental Protection Agency, 1200 Pennsylvania Ave., NW., Washington, DC 20460; telephone number: (202) 564-5962; fax number: (202) 564-0032; e-mail address: metcalf.betsy@epa.gov.

SUPPLEMENTARY INFORMATION:

How Can I Access the Docket and/or Submit Comments?

EPA has established a public docket for this ICR under Docket ID No. EPA-HQ-OECA-2007-0380, which is available for online viewing at www.regulations.gov, or in person viewing at the Enforcement and Compliance Docket and Information Center (ECDIC) in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the ECDIC is 202-566-1752.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are State, District, Local, and Commonwealth governments.

Title: Air Stationary Source Compliance and Enforcement Information.

ICR numbers: EPA ICR No. 0107.09, OMB Control No. 2060-0096.

ICR status: This ICR is currently scheduled to expire on June 30, 2008. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The collection of air compliance monitoring and enforcement information in the Air Facility System (AFS) provides EPA with the ability to assess progress toward meeting emission requirements developed under the authority of the Clean Air Act (CAA) to protect and maintain the atmospheric environment and public health. Agencies receive authorization of their CAA programs through regulated grant authorities, and report compliance/enforcement activities undertaken at stationary sources using the Minimum Data Requirements (MDRs) as outlined in the renewal of this ICR. This renewal requires the continuation of reporting of previously established MDRs with no additional new burden. The provision of Section 114(a)(1) of the Clean Air Act, 42 U.S.C. 7414(a)(1) provide the broad authority for the reporting of compliance monitoring and enforcement information, along with Subpart Q—Reports in 40 CFR part 51: §§ 51.324(a) and (b), and 51.327.

Burden Statement: The annual public reporting and recordkeeping burden for this collection of information was estimated to average 509 hours per year for a small State/local agency (150 major sources or less), 1,463 hours per year for a medium state/local agency (151-499 major sources) or 2,572 hours per year for large State/local agencies (greater or equal to 500 major sources per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate. The estimates from the previous ICR are briefly summarized here:

Estimated total number of potential respondents: 99.

Frequency of response: Six times per year (every 60 days).

Estimated total average number of responses for each respondent: A minimum of six responses from each respondent.

Estimated total annual burden hours: 98,183 hours.

Estimated total annual costs: $3,277,935 annually.

Are There Changes in the Estimates From the Last Approval?

EPA acknowledges that the estimated operational and maintenance costs will increase due to inflationary pressures that increase hourly resource costs for management, professional, and related occupational groups. The labor rates used in the ICR estimates will be taken from the Department of Labor Employment Compensation and Costs (ECEC) Web site. These changes will be reflected in the final supporting statement for this ICR. Additionally, the number of respondents will be corrected to reflect 99 respondents, an increase from 93 in the previous ICR resulting in an overall increase in hours and resources for reporting.

What Is the Next Step in the Process for This ICR?

EPA will consider the comments received and amend the ICR as appropriate. The final ICR package will be submitted by EPA to OMB for review and approval pursuant to 5 CFR 1320.12. At that time, EPA will issue another Federal Register notice pursuant to 5 CFR 1320.5(a)(1)(iv) to announce the submission of the ICR to OMB, and a second opportunity to submit additional comments to OMB. If you have any questions about this ICR, or the approval process, please contact the technical person listed under FOR FURTHER INFORMATION CONTACT.

Dated: October 15, 2007.
Michael M. Stahl,
Director, Office of Compliance, Office of Enforcement and Compliance Assurance.

[FR Doc. E7-20833 Filed 10-22-07; 8:45 am]

BILLING CODE 6560-50-P